DEPARTMENT OF ENERGY

Environmental Management Site-Specific Advisory Board, Idaho

AGENCY: Department of Energy.

ACTION: Notice of open meeting.

SUMMARY: This notice announces a meeting of the Environmental Management Site-Specific Advisory Board (EM SSAB), Idaho. Federal Advisory Committee Act (Pub. L. No. 92-463, 86 Stat. 770) requires that public notice of these meetings be announced in the Federal Register.

DATES: Tuesday, May 15, 2001, 8 a.m.-6 p.m.; Wednesday, May 16, 2001, 8 a.m.-5 p.m.

Public participation sessions will be held on: Tuesday, May 15, 2001, 12:15-12:30 p.m, 5:45-6 p.m.; Wednesday, May 16, 2001, 11:45-12 noon, 4-4:15 p.m.

These times are subject to change as the meeting progresses. Please check with the meeting facilitator to confirm these times.

ADDRESSES: Holiday Inn, 1399 Bench Road, Pocatello, Idaho 83201, (208) 237-1400.

FOR FURTHER INFORMATION CONTACT: Ms. Wendy Lowe, Idaho National Engineering and Environmental Laboratory (INEEL) Citizens' Advisory Board (CAB) Facilitator, Jason Associates Corporation, 477 Shoup Avenue, Suite 205, Idaho Falls, ID 83402, Phone (208) 522-1662 or visit the Board's Internet home page at http://www.ida.net/users/cab.

SUPPLEMENTARY INFORMATION: Purpose of the Board: The purpose of the Board is to make recommendations to DOE and its regulators in the areas of future use, cleanup levels, waste disposition and cleanup priorities at the INEEL.

Tentative Agenda: (Agenda topics may change up to the day of the meeting. Please contact Jason Associates for the most current agenda or visit the CAB's Internet site at www.ida.net/users/cab).

Presentations on the following:

• Workforce Restructuring Plan

• Clean Air Act permitting at the INEEL

• Clean Water Act permitting at the INEEL

• Nuclear Regulatory Commission licensing at the INEEL

• Six of the major components of the EM Program for consideration in development of a recommendation on budget priorities within limited funding levels

Status Report on the following:

• National Environmental Policy Act (NEPA)

Discussion of the following:

• April Snowbird Forum discussion regarding stakeholder Forum to be held later this year

Public Participation: This meeting is open to the public. Written statements may be filed with the Board facilitator either before or after the meeting. Individuals who wish to make oral presentations pertaining to agenda items should contact the Board Chair at the address or telephone number listed above. Requests must be received five days prior to the meeting and reasonable provision will be made to include the presentation in the agenda. The Deputy Designated Federal Officer, Jerry Bowman, Assistant Manager for Laboratory Development, Idaho Operations Office, U.S. Department of Energy, is empowered to conduct the meeting in a fashion that will facilitate the orderly conduct of business. Every individual wishing to make public comment will be provided equal time to present their comments. Additional time may be made available for public comment during the presentations.

Minutes: The minutes of this meeting will be available for public review and copying at the Freedom of Information Public Reading Room, 1E-190, Forrestal Building, 1000 Independence Avenue, SW., Washington, DC 20585 between 9 a.m. and 4 p.m., Monday through Friday except Federal holidays. Minutes will also be available by writing to Ms. Wendy Lowe, INEEL CAB Facilitator, Jason Associates Corporation, 477 Shoup Avenue, Suite 205, Idaho Falls, ID 83402 or by calling (208) 522-1662.

Issued at Washington, DC on April 18, 2001.
Belinda Hood,
Acting Deputy Advisory Committee Management Officer.

[FR Doc. 01-10072 Filed 4-23-01; 8:45 am]

BILLING CODE 6450-01-P